DEPARTMENT OF COMMERCE

National Oceanic and Atmospheric Administration

RIN 0648-XD527

Marine Mammals; File Nos. 18638, 17305 and 18727

AGENCY: National Marine Fisheries Service (NMFS), National Oceanic and Atmospheric Administration (NOAA), Commerce.

ACTION: Notice; receipt of applications.

SUMMARY: Notice is hereby given that the following entities have applied in due form for permits to collect, import and export specimens of marine mammals for scientific research:

File No. 18638: National Marine Mammal Laboratory (NMML, Dr. John Bengtson, Responsible Party), 7600 Sand Point Way NE., Seattle, WA 98115;

File No. 17305: Alliance of Marine Mammal Parks and Aquariums, 218 N. Lee Street, Suite 200, Alexandria, Virginia 22314 (Kathleen Dezio, Responsible Party); and

File No. 18727: University of Alaska Museum of the North, 907 Yukon Drive, Fairbanks, AK 99775-6960 (Aren Gunderson, Responsible Party).

DATES: Written, telefaxed, or email comments must be received on or before December 1, 2014.

ADDRESSES: The applications and related documents are available for review by selecting “Records Open for Public Comment” from the Features box on the Applications and Permits for Protected Species (APPS) home page, https://apps.nmfs.noaa.gov, and then selecting the appropriate File No. 18638, 17305 or 18727 from the list of available applications.

These documents are also available upon written request or by appointment in the Permits and Conservation Division, Office of Protected Resources, NMFS, 1315 East-West Highway, Room 13705, Silver Spring, MD 20910; phone (301) 427-8401; fax (301) 713-0376.

Written comments on these applications should be submitted to the Chief, Permits and Conservation Division, at the address listed above. Comments may also be submitted by facsimile to (301) 713-0376, or by email to NMFS.Pr1Comments@noaa.gov. Please include the appropriate File No(s). 18638, 17305 and/or 18727 in the subject line of the email comment.

Those individuals requesting a public hearing should submit a written request to the Chief, Permits and Conservation Division at the address listed above. The request should set forth the specific reasons why a hearing on any of these applications would be appropriate.

FOR FURTHER INFORMATION CONTACT: Jennifer Skidmore, Amy Sloan, or Brendan Hurley, (301) 427-8401.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

File No. 18638: NMML conducts research on marine mammals important to the mission of the National Marine Fisheries Service (NMFS) and the National Oceanic & Atmospheric Administration (NOAA). NMML is requesting a renewal of Permit No. 13583 which authorizes collection of cetacean and pinniped (except for walrus) specimens from dead animals, and for import, export, and possession of specimens taken legally worldwide. Samples (up to 100,000 individuals from each taxa group) may be archived, transported, shared, and analyzed by researchers in order to optimize the amount of biological information gained from each animal. No takes of live animals would be authorized under this permit. There will be no non-target species taken incidentally under this permit because the permit would only cover import, export, and possession of samples from dead animals or live animals taken legally under other permits. A permit is requested for a five-year period.

File No. 17305: The Alliance of Marine Mammal Parks and Aquariums members participate in multiple research and husbandry programs to study and enhance the health and biology of both wild marine mammals and those in public display, research, and stranding facilities. To achieve this objective, a permit to import/export parts and specimen samples (hard and soft parts) collected from all species of marine mammals (pinnipeds except walrus, and cetaceans) under the jurisdiction of the NMFS is required. Specimens and parts will come from individual animals (up to 700 cetaceans and 400 pinnipeds) already taken under separate authorization, i.e., those maintained in Alliance member facilities, as well as animals taken by authorized research projects or subsistent hunts in the U.S. and internationally, and bycatch or stranded animals in foreign countries. Import and export of parts and samples authorized by this permit will result in no additional takes of individual animals. Topics of particular interest include diseases of marine mammals, pathology, health diagnostics, endocrinology, effects of environmental contaminants, immunology, toxicology, stock structure, distribution, age determination, reproduction, feeding habits and nutrition. This application is a continuation of the work done under Permit No.1076-1789. The requested duration of the permit is five years.

File No. 18727: The University of Alaska Museum of the North functions as an archive for scientific specimens of marine mammals under the jurisdiction of the National Marine Fisheries and is a major repository of marine mammal material from the Arctic and North Pacific oceans. Under the proposed permit, the applicant would (1) import/export marine mammal parts (bones and organ tissue samples) from dead beach-cast carcasses, (2) receive/archive and export samples of marine mammals taken by Alaskan Native subsistence hunters, and (3) receive, import/export specimens from scientists in academic, federal, and state institutions involved in marine mammal research under their own permits. Unlimited samples from up to 1,240 pinnipeds (35 species; excluding walrus) and 1,700 cetaceans (81 species) would be collected, received, imported, or exported annually. Import/export activities would occur world-wide. No live animals would be harassed or taken, lethally or otherwise, under the requested permit. The permit is requested for a five-year period.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the application to the Marine Mammal Commission and its Committee of Scientific Advisors.

Dated: October 24, 2014.
Julia Harrison,
Chief, Permits and Conservation Division, Office of Protected Resources, National Marine Fisheries Service.

[FR Doc. 2014-25750 Filed 10-29-14; 8:45 am]

BILLING CODE 3510-22-P